DEPARTMENT OF TRANSPORTATION

Federal Aviation Administration

14 CFR Part 39

[Docket No. FAA-2010-0909; Directorate Identifier 2010-SW-026-AD; Amendment 39-16835; AD 2011-21-12]

RIN 2120-AA64

Airworthiness Directives; Erickson Air-Crane Incorporated Model S-64F Helicopters

AGENCY: Federal Aviation Administration (FAA), DOT.

ACTION: Final rule.

SUMMARY: We are adopting a new airworthiness directive (AD) for the Erickson Air-Crane (Erickson Air-Crane) Model S-64F helicopters. The amendment requires, at specified intervals, certain inspections of the rotating swashplate assembly (swashplate) for a crack. If a crack is found, this AD also requires, before further flight, replacing the swashplate with an airworthy swashplate. This AD is prompted by a report from the manufacturer of a swashplate cracking during fatigue testing. We are issuing this AD to prevent loss of a swashplate due to a fatigue crack, loss of control of the main rotor system, and subsequent loss of control of the helicopter.

DATES: Effective December 1, 2011.

The Director of the Federal Register approved the incorporation by reference of certain publications listed in the AD as of December 1, 2011.

ADDRESSES: For service information identified in this AD, contact Erickson Air-Crane Incorporated, 3100 Willow Springs Road, P.O. Box 3247, Central Point, OR 97502, telephone (541) 664-5544, fax (541) 664-2312.

Examining the AD Docket: You may examine the AD docket, any comments, and other information in person at the Docket Operations office between 9 a.m. and 5 p.m., Monday through Friday, except Federal holidays. The Docket Operations office (telephone (800) 647-5527) is located in Room W12-140 on the ground floor of the West Building at 1200 New Jersey Avenue, SE., Washington, DC 20590.

FOR FURTHER INFORMATION CONTACT: Michael Kohner, ASW-170, Aviation Safety Engineer, Rotorcraft Directorate, Rotorcraft Certification Office, Fort Worth, Texas 76137, telephone (817) 222-5170, fax (817) 222-5783.

SUPPLEMENTARY INFORMATION:

Discussion

We issued a Notice of Proposed Rulemaking (NPRM) to amend 14 CFR part 39 to include an AD that would apply to Erickson Air-Crane Model S-64F helicopters on September 3, 2010. That NPRM was published in the Federal Register on September 16, 2010 (75 FR 56487). That NPRM proposed to require, at specified intervals, certain visual inspections of the swashplate for a crack. Also, the AD proposed, at specified intervals a fluorescent-penetrant inspection (FPI) of the swashplate for a crack. If a crack is found, that NPRM proposed, before further flight, replacing the swashplate with an airworthy swashplate.

Comments

We gave the public an opportunity to participate in developing this AD. We received no comment on the NPRM or on our determination of the cost to the public. Therefore, based on our review and evaluation of the available data, we have determined that air safety and the public interest require adopting the AD as proposed.

Costs of Compliance

We estimate that this AD will affect 7 helicopters of U.S. registry and will take about:

• .5 hour for the visual inspection;

• 1 hour for the 10-power or higher magnifying glass inspection;

• 35 hours for the 1,000-hour FPI; and

• 32 hours to replace a swashplate at an average labor rate of $85 per work hour.

Required parts will cost about $25,000 per helicopter. Based on these figures, we estimate the cost of this AD on U.S. operators is $229,145, assuming 40 15-hour visual inspections; 4 150-hour 10-power magnifying glass inspections; 1 1000-hour FPI and 1 swashplate replacement for each helicopter for the entire fleet of S-64F helicopters for each year.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-21-12 Erickson Air-Crane Incorporated: Amendment 39-16835; Docket No. FAA-2010-0909; Directorate Identifier 2010-SW-026-AD.

Applicability: Model S-64F helicopters, with rotating swashplate assembly (swashplate), part number (P/N) 65104-11001-051, installed, certificated in any category.

Compliance: Required as indicated.

To prevent loss of a swashplate due to a fatigue crack, loss of control of the main rotor system, and subsequent loss of control of the helicopter, do the following:

(a) Within 15 hours time-in-service (TIS), unless accomplished previously, and thereafter at intervals not to exceed 15 hours TIS, clean and visually inspect the swashplate for a crack in areas A through F as depicted in Figure 1 of Erickson Air-Crane Service Bulletin 64B10-10, Revision 2, dated April 1, 2008 (SB).

(b) Within 150 hours TIS, unless accomplished previously, and thereafter at intervals not to exceed 150 hours TIS, clean the swashplate and, using a 10-power or higher magnifying glass, visually inspect for a crack in areas A through F as depicted in Figure 1 of the SB.

(c) Within 1,000 hours TIS since the last fluorescent-penetrant inspection (FPI) and thereafter at intervals not to exceed 1,000 hours TIS, remove the swashplate from the rotor head, disassemble and remove the paint from the swashplate, and FPI the swashplate for a crack in accordance with ATSM E1417, Type I, Methods A or C.

(d) If a crack is found in the swashplate, before further flight, replace the swashplate with an airworthy swashplate.

(e) To request a different method of compliance or a different compliance time for this AD, follow the procedures in 14 CFR 39.19. Contact the Manager, Rotorcraft Certification Office, Rotorcraft Directorate, ATTN: DOT/FAA Southwest Region, Michael Kohner, ASW-170, Aviation Safety Engineer, Fort Worth, Texas 76137, telephone (817) 222-5170, fax (817) 222-5783, for information about previously approved alternative methods of compliance.

(f) The Joint Aircraft System/Component (JASC) Code is 6230: Main Rotor Mast/Swashplate.

(g) The inspections shall be done in accordance with the specified portions of Erickson Air-Crane Service Bulletin 64B10-10, Revision 2, dated April 1, 2008. The Director of the Federal Register approved this incorporation by reference in accordance with 5 U.S.C. 552(a) and 1 CFR part 51. Copies may be obtained from Erickson Air-Crane Incorporated, 3100 Willow Springs Road, P. O. Box 3247, Central Point, OR 97502, telephone (541) 664-5544, fax (541) 664-2312. Copies may be inspected at the FAA, Office of the Regional Counsel, Southwest Region, 2601 Meacham Blvd., Room 663, Fort Worth, Texas, or at the National Archives and Records Administration (NARA). For information on the availability of this material at NARA, call 202-741-6030, or go to: http://www.archives.gov/federal_register/code_of_federal_regulations/ibr_locations.html.

(h) This amendment becomes effective on December 1, 2011.

Issued in Fort Worth, Texas, on September 29, 2011.
Kim Smith,
Manager, Rotorcraft Directorate, Aircraft Certification Service.

[FR Doc. 2011-27775 Filed 10-26-11; 8:45 am]

BILLING CODE 4910-13-P